DEPARTMENT OF LABOR

Employment And Training Administration

[TA-W-53,973]

Warner Electric, Inc., a Subsidiary of Colfax Corporation, Roscoe, IL; Dismissal of Application for Reconsideration

Pursuant to 29 CFR 90.18(C) an application for administrative reconsideration was filed with the Director of the Division of Trade Adjustment Assistance for workers at Warner Electric, Inc., a subsidiary of Colfax Corporation, Roscoe, Illinois. The application contained no new substantial information which would bear importantly on the Department's determination. Therefore, dismissal of the application was issued.

TA-W-53,973; Warner Electric, Inc., a subsidiary of Colfax Corporation, Roscoe, Illinois (April 28, 2004).

Signed in Washington, DC this 3rd day of May, 2004.
Timothy Sullivan,
Director, Division of Trade Adjustment Assistance.

[FR Doc. E4-1065 Filed 5-7-04; 8:45 am]

BILLING CODE 4510-13-P